ENVIRONMENTAL PROTECTION AGENCY

[FRL-8157-2]

Science Advisory Board Staff Office; Notification of a Teleconference of the Science Advisory Board to Review a Draft Report by the Regulatory Environmental Modeling Guidance Review Panel of the Science Advisory Board

AGENCY: Environmental Protection Agency (EPA).

ACTION: Notice.

SUMMARY: The EPA Science Advisory Board (SAB) Staff Office announces a public teleconference meeting of the chartered SAB to discuss a draft SAB report, Review of Agency “Draft Guidance on the Development, Evaluation, and Application of Regulatory Environmental Models” and “Models Knowledge Base” by the Regulatory Environmental Modeling Guidance Review Panel of the EPA Science Advisory Board.

DATES: The date for the teleconference is Wednesday, April 26, 2006, from 1:30-4 p.m. (Eastern Time).

ADDRESSES: The meeting will take place via telephone only.

FOR FURTHER INFORMATION CONTACT: Members of the public who wish to obtain the call-in number and access code to participate in the telephone conference may contact Mr. Thomas O. Miller, Designated Federal Officer (DFO), Science Advisory Board Staff Office (1400F), U.S. EPA, 1200 Pennsylvania Avenue, NW., Washington, DC 20460; or via telephone/voice mail at (202) 343-9982 or via e-mail at miller.tom@epa.gov. General information about the SAB, as well as any updates concerning the meeting announced in this notice, may be found on the SAB Web site at: http://www.epa.gov/sab.

SUPPLEMENTARY INFORMATION: Pursuant to the Federal Advisory Committee Act, Public Law 92-463, notice is hereby given that the SAB will hold a public teleconference on the date and time provided above. The purpose of this telephone conference is to conduct a final public review and discussion of the draft SAB report Review of Agency “Draft Guidance on the Development, Evaluation, and Application of Regulatory Environmental Models” and “Models Knowledge Base” by the Regulatory Environmental Modeling Guidance Review Panel of the EPA Science Advisory Board. The focus of the meeting is to consider whether: (i) The original charge questions to the SAB review panel have been adequately addressed in the draft report, (ii) the draft report is clear and logical; and (iii) the conclusions drawn, or recommendations made in the draft report, are supported by the body of the report.

Background: Background on the REM Guidance Review Panel activities can be found in the following Federal Register Notices 68 FR 46602, August 6, 2003; 70 FR 1243, January 6, 2005; 70 FR 12477, March 14, 2005; 70 FR 30948, May 31, 2005; 70 FR 41008, July 15, 2005; and 70 FR 54923, September 19, 2005. Information can also be found on the EPA SAB Web site at http://www.epa.gov/sab/panels/cremgacpanel.html.

Availability of Meeting Materials: A roster of participating SAB members and the meeting agenda will be posted on the SAB Web site prior to the meeting. The draft panel report is on the SAB Web site at http://www.epa.gov/sab/pdf/rem draft 02-24-06.pdf.

Procedures for Providing Public Input: Interested members of the public may submit relevant written or oral information for the SAB Panel to consider during the advisory process.

Oral Statements: In general, individuals or groups requesting an oral presentation at a public teleconference will be limited to three minutes per speaker with no more than a total of fifteen minutes for all speakers. Interested parties should contact the DFO, contact information provided above, in writing via e-mail by April 19, 2006, to be placed on the public speaker list for the teleconference.

Written Statements: Written statements should be received in the SAB Staff Office by April 19, 2006, so that the information may be made available to the Panel for their consideration. Written statements should be supplied to the DFO in the following formats: one hard copy with original signature, and one electronic copy via e-mail (acceptable file format: Adobe Acrobat, WordPerfect, Word, or Rich Text files in IBM-PC/Windows 98/2000/XP format).

Meeting Accommodations: For information on access or services for individuals with disabilities, please contact Thomas Miller, Designated Federal Officer (DFO), at (202) 343-9982 or via e-mail at miller.tom@epa.gov. To request accommodation of a disability, please contact the DFO, preferably at least 10 days prior to the meeting, to give EPA as much time as possible to process your request.

Dated: April 5, 2006.
Anthony Maciorowski,
Associate Director for Science, EPA Science Advisory Board Staff Office.

[FR Doc. E6-5324 Filed 4-10-06; 8:45 am]

BILLING CODE 6560-50-P